DEPARTMENT OF ENERGY

Federal Energy Regulatory Commission

Combined Notice of Filings #1

Take notice that the Commission received the following exempt wholesale generator filings:

Docket Numbers: EG13-17-000.

Applicants: CPV Shore, LLC.

Description: Notice of Self-Certification as an EWG of CPV Shore, LLC.

Filed Date: 3/4/13.

Accession Number: 20130304-5128.

Comments Due: 5 p.m. ET 3/25/13.

Take notice that the Commission received the following electric rate filings:.

Docket Numbers: ER13-535-001.

Applicants: PJM Interconnection, L.L.C.

Description: Amendment to MOPR filing re the Feb 5, 2013 Order in ER13-535 to be effective 2/5/2013.

Filed Date: 3/4/13.

Accession Number: 20130304-5160.

Comments Due: 5 p.m. ET 3/25/13.

Docket Numbers: ER13-588-001.

Applicants: New York Independent System Operator, Inc.

Description: NYISO Compliance Revisions to OATT Interconnection Study Process to be effective 2/18/2013.

Filed Date: 3/4/13.

Accession Number: 20130304-5095.

Comments Due: 5 p.m. ET 3/25/13.

Docket Numbers: ER13-823-001.

Applicants: Castleton Commodities Merchant Trading LLC.

Description: Supplement to notice of succession to be effective 1/1/2013.

Filed Date: 3/4/13.

Accession Number: 20130304-5097.

Comments Due: 5 p.m. ET 3/25/13.

Docket Numbers: ER13-826-000.

Applicants: RPA Energy, Inc.

Description: RPA Energy, Inc. submits supplement to January 30, 2013 Application for Market Based Authority.

Filed Date: 2/20/13.

Accession Number: 20130220-5071.

Comments Due: 5 p.m. ET 3/13/13.

Docket Numbers: ER13-1024-000.

Applicants: Southern California Edison Company.

Description: Revised Added Facilities Rate for Agmts under WDAT to be effective 1/6/2013.

Filed Date: 3/4/13.

Accession Number: 20130304-5002.

Comments Due: 5 p.m. ET 3/25/13.

Docket Numbers: ER13-1028-000.

Applicants: Trupro Energy LLC.

Description: TruPro Energy Cancellation of Tariff to be effective 3/5/2013.

Filed Date: 3/4/13.

Accession Number: 20130304-5066.

Comments Due: 5 p.m. ET 3/25/13.

Docket Numbers: ER13-1029-000.

Applicants: PJM Interconnection, L.L.C.

Description: Original Service Agreement No. 3514; Queue No. V3-052 to be effective 1/31/2013.

Filed Date: 3/4/13.

Accession Number: 20130304-5093.

Comments Due: 5 p.m. ET 3/25/13.

Docket Numbers: ER13-1030-000.

Applicants: PJM Interconnection, L.L.C.

Description: Notice of Cancellation of PJM Service Agmt Nos. 3044, 3146, 3169 and 3170 to be effective 1/31/2013.

Filed Date: 3/4/13.

Accession Number: 20130304-5096.

Comments Due: 5 p.m. ET 3/25/13.

Docket Numbers: ER13-1031-000.

Applicants: Southern Indiana Gas and Electric Company.

Description: Petition for Limited Waiver of the PJM Interconnection, L.L.C. Open Access Transmission Tariff of Southern Indiana Gas and Electric Company.

Filed Date: 3/4/13.

Accession Number: 20130304-5147.

Comments Due: 5 p.m. ET 3/25/13.

Docket Numbers: ER13-1032-000.

Applicants: Southwest Power Pool, Inc.

Description: Settlement Agreement between Southwest Power Pool, Inc. and Municipal Energy Agency of Nebraska.

Filed Date: 3/4/13.

Accession Number: 20130304-5175.

Comments Due: 5 p.m. ET 3/25/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 05, 2013.
Nathaniel J. Davis, Sr.,
Deputy Secretary.

[FR Doc. 2013-05857 Filed 3-13-13; 8:45 am]

BILLING CODE 6717-01-P